DEPARTMENT OF COMMERCE

National Oceanic and Atmospheric Administration

RIN: 0648-XF66

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene its Law Enforcement Advisory Panel (LEAP).

DATES: The meeting will be held on Tuesday, March 11, 2008, from 1 pm to 5 pm.

ADDRESSES: The meeting will be held at the Hilton, 5400 Seawall Blvd., Galveston, TX 77551; telephone: (877) 425-4753.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Council will convene the LEAP to review a generic amendment that would potentially allow offshore aquaculture in the Gulf of Mexico. The LEAP will also review Amendment 30B to the Reef Fish Fishery FMP that may establish additional restrictions on harvest of gag to maintain the rebuilding plan for this overfished stock and relax restriction on red grouper based on favorable analyses from the last stock assessment. Furthermore, the LEAP will review Draft Amendment 29 to the Reef Fish FMP that could establish a grouper/tilefish limited access privilege program (LAPP) or individual fishing quota (IFQ) program. Finally, the LEAP will receive a presentation on the potential for new marine protected areas (MPAs), and review a draft offshore aquaculture bill.

The LEAP consists of principal law enforcement officers in each of the Gulf States, as well as the NMFS, U.S. Fish and Wildlife Service (FWS), the U.S. Coast Guard, and the NOAA General Counsel. A copy of the agenda and related materials can be obtained by calling the Council office at (813) 348-1630.

Although other non-emergency issues not on the agendas may come before the LEAP for discussion, in accordance with the Magnuson-Stevens Fishery Conservation and Management Act (Magnuson-Stevens Act), those issues may not be the subject of formal action during this meeting. Actions of the LEAP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) 5 working days prior to the meeting.

Dated: February 12, 2008.
Tracey L. Thompson,
Acting Director, Office of Sustainable Fisheries, National Marine Fisheries Service.

[FR Doc. E8-2886 Filed 2-14-08; 8:45 am]

BILLING CODE 3510-22-S